DEPARTMENT OF TRANSPORTATION

National Highway Traffic Safety Administration

Reports, Forms, and Record Keeping Requirements; Agency Information Collection Activity Under OMB Review

AGENCY: National Highway Traffic Safety Administration (NHTSA), U.S. Department of Transportation (DOT).

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on March 8, 2016 (81 FR 12196). The agency received one comment. This comment was supportive of the proposed survey and did not provide any suggestions for the survey's implementation or design.

DATES: Comments must be submitted on or before November 17, 2016.

ADDRESSES: Send comments, within 30 days, to the Office of Information and Regulatory Affairs, Office of Management and Budget, 725 17th Street NW., Washington, DC 20503, Attention NHTSA Desk Officer.

FOR FURTHER INFORMATION CONTACT: Alan Block, Office of Behavioral Safety Research (NPD-310), National Highway Traffic Safety Administration, 1200 New Jersey Avenue SE., W46-499, Washington, DC 20590. Mr. Block's phone number is 202-366-6401 and his email address is Alan.Block@dot.gov.

SUPPLEMENTARY INFORMATION: Title: Awareness & Availability of Child Passenger Safety Information Resources (AACPSIR).

Type of Request: New information collection requirement.

Abstract: NHTSA's Fatality Analysis Reporting System shows that in 2014 an average of 3 children under the age of 15 were killed and an estimated 458 children were injured each day in traffic crashes. Child restraint systems (CRSs) are effective at reducing the risk of injury during motor vehicle crashes. Child safety seats have been shown to reduce fatal injury by 71 percent for infants (under 1 year old) and by 54 percent for toddlers (1 to 4 years old) in passenger cars. For infants and toddlers in light trucks, the corresponding reductions are 58 percent and 59 percent, respectively. However, a 2002 NHTSA study estimated a misuse rate of 73 percent. If booster seats for older children were removed, the misuse figure exceeded 80 percent. The LATCH (Lower Anchors and Tethers for Children) child restraint technology was new at the time of the 2002 study, and few of the observed restraints were LATCH systems. While the purpose of LATCH is to make it easier for parents to correctly install child restraints, a 2006 NHTSA study still found loose or twisted straps/tethers and incorrect attachments when using LATCH. Subsequent research has found that incorrect use of a CRS places the child at an increased risk of both fatal and non-fatal injuries

Incorrect selection of a CRS appropriate for the child's height and weight, and premature promotion, are additional factors that increase the risk of injury to a child in the event of a crash. While infants should always ride in rear-facing car seats, NHTSA's 2013 National Survey of the Use of Booster Seats (NSUBS) observed 10 percent of children under age 1 were not in rear-facing car seats; most of these infants were prematurely graduated to forward-facing car seats. Children 1 to 3 years old should ride either in rear-facing or front-facing car seats, but NSUBS found that 9 percent of children 1 to 3 years old were prematurely graduated to booster seats and 3 percent to seat belts. Children ages 4 to 7 should either ride in forward-facing car seats or booster seats. However, 24 percent were observed in seat belts, and 9 percent were unrestrained.

Many information resources are available to aid parents and caregivers with proper CRS selection, installation, and use, including hands-on instruction. Research has shown that hands-on instruction on CRS installation, such as that provided by NHTSA and Safe Kids Worldwide at Child Car Seat Inspection Stations nationwide, is effective in reducing misuse. Unfortunately, this resource seems to be underutilized. Only about one out of ten drivers interviewed for NHTSA's National Child Restraint Use Special Study reported having their CRS inspected at an inspection station. At present, it is unclear what deters and what encourages use of CRS inspection stations and Child Passenger Safety Technicians.

To help increase correct use of CRS and utilization of inspection stations, approval is requested to conduct a national web-based survey to estimate parent and caregiver general knowledge of child passenger safety (CPS) information resources, awareness and use of CRS inspection stations, and barriers to CRS inspection station use. The survey will also examine the relationship between parent and caregiver confidence in installing CRSs, risk perception, and intent to visit an inspection station. The proposed survey is titled, “Awareness & Availability of Child Passenger Safety Information Resources” (AACPSIR).

Affected Public: The potential respondents would be people aged 18 years or older who regularly transport children between the ages of 0 and 9 in their personal vehicles. NHTSA would send survey requests to a sufficient number of households to obtain 1,400 completed web-based interviews. The requests would be sent via postal mail. The screener would ask the member of the household who most frequently drives children to complete the survey. NHTSA considers this to be the person in the household most likely to seek CPS information and pursue hands-on instruction on CRS use at an inspection station, and therefore the most appropriate respondent for this survey. Each respondent would complete a single survey; there will be no request for additional follow-up information or response.

Estimated Total Annual Burden: The total respondent burden for this data collection would be 990 hours. NHTSA will contact a maximum of 32,000 households via an invitation letter to obtain 1,400 completed interviews. Of the 32,000 households contacted, NHTSA estimates that 7,680 potential respondents would log onto the Web site and take a 5 minute eligibility screener for an estimated burden of 640 hours. Of those who take the eligibility screener, NHTSA estimates that 1,400 would complete the full survey, which would average 15 minutes in length, for an estimated burden of 350 hours.

Comments are invited on the following:

• Whether the proposed collection of information is necessary for the proper performance of the functions of the agency, including whether the information will have practical utility;

• The accuracy of the agency's estimate of the burden of the proposed information collection;

• Ways to enhance the quality, utility, and clarity of the information to be collected; and

• Ways to minimize the burden of the collection of information on respondents, including the use of automated collection techniques or other forms of information technology.

A comment to OMB is most effective if OMB receives it within 30 days of publication.

Authority: 44 U.S.C. Section 3506(c)(2)(A).

Issued on: October 13, 2016.
Jeff Michael,
Associate Administrator, Research and Program Development.

[FR Doc. 2016-25122 Filed 10-17-16; 8:45 am]

BILLING CODE 4910-59-P